DEPARTMENT OF COMMERCE

National Oceanic and Atmospheric Administration

National Sea Grant Advisory Board (NSGAB); Public Meeting and Solicitation for Nominations for the National Sea Grant Advisory Board

AGENCY: National Oceanic and Atmospheric Administration (NOAA), Office of Oceanic and Atmospheric Research (OAR), Department of Commerce (DOC).

ACTION: Notice of public meeting and notice of solicitation for nominations for the National Sea Grant Advisory Board.

SUMMARY: This notice sets forth the schedule and proposed agenda of a forthcoming meeting of the National Sea Grant Advisory Board (Board). Board members will discuss and provide advice on the National Sea Grant College Program (NSGCP) in the areas of program evaluation, strategic planning, education and extension, science and technology programs, and other matters as described in the agenda found on the NSGCP website at http://seagrant.noaa.gov/WhoWeAre/Leadership/NationalSeaGrantAdvisoryBoard/UpcomingAdvisoryBoardMeetings.aspx. This notice also responds to the Sea Grant Program Improvement Act of 1976, which requires the Secretary of Commerce to solicit nominations at least once a year for membership on the National Sea Grant Advisory Board. To apply for membership to the Board applicants should submit a current resume. A cover letter highlighting specific areas of expertise relevant to the purpose of the Board is helpful, but not required. Nominations will be accepted by email (preferred) or U.S. mail (See Contact Information Section). NOAA is an equal opportunity employer.

DATES: The announced meeting is scheduled for Friday, November 13, 2020 from 1:00 p.m. to 5:00 p.m. Eastern Time. There is no due date for nominations, however the program intends to begin reviewing applications to fill upcoming vacancies by January 31, 2021. Applications will be kept on file for consideration of any Board vacancy for a period of three years from January 31, 2021.

ADDRESSES: The meeting will be held virtually only. For more information and for virtual access see below in the FOR FURTHER INFORMATION CONTACT section. Nominations should be sent via email to Ms. Donna Brown, Donna.Brown@noaa.gov.

Status: The meeting will be open to public participation with a 15-minute public comment period on Friday, November 13, 2020, at 4:30 p.m. Eastern Time. (Check agenda using link in the Summary section to confirm time.) The Board expects that public statements presented at its meetings will not be repetitive of previously submitted verbal or written statements. In general, each individual or group making a verbal presentation will be limited to a total time of three (3) minutes. Public written comments should be received by Ms. Donna Brown by Friday, October 30, 2020 to provide sufficient time for Board review. Public written comments received after the deadline will be distributed to the Board, but may not be reviewed prior to the meeting date. As this will be a virtual meeting, there is no physical address for the meeting and all public comments should be sent to the contact below.

FOR FURTHER INFORMATION CONTACT: For any questions concerning the meeting, please contact Ms. Donna Brown, at Donna.Brown@noaa.gov. Phone Number: 301-734-1088.

Special Accommodations: The Board meeting is physically accessible to people with disabilities. Requests for sign language interpretation or other auxiliary aids should be directed to Ms. Donna Brown by Friday, November 1, 2020.

SUPPLEMENTARY INFORMATION: The Board, which consists of a balanced representation from academia, industry, state government and citizens groups, was established in 1976 by Section 209 of the Sea Grant Improvement Act (Pub. L. 94-461, 33 U.S.C. 1128). The Board advises the Secretary of Commerce and the Director of the NSGCP with respect to operations under the Act, and such other matters as the Secretary refers to them for review and advice.

Individuals Selected for Federal Advisory Committee Membership: Upon selection and agreement to serve on the National Sea Grant Advisory Board, you become a Special Government Employee (SGE) of the United States Government. According to 18 U.S.C. 202(a), an SGE is an officer or employee of an agency who is retained, designated, appointed, or employed to perform temporary duties, with or without compensation, not to exceed 130 days during any period of 365 consecutive days, either on a full time or intermittent basis. Please be aware that after the selection process is complete, applicants selected to serve on the Board must complete the following actions before they can be appointed as a Board member:

(a) Security Clearance (on-line Background Security Check process and fingerprinting), and other applicable forms, both conducted through NOAA Workforce Management; and (b) Confidential Financial Disclosure Report as an SGE, you are required to file a Confidential Financial Disclosure Report annually to avoid involvement in a real or apparent conflict of interest. You may find the Confidential Financial Disclosure Form at the following website. https://oge.gov/web/oge.nsf/OGE%20Forms/60739EAC38F5697785258363005C02C9.

Dated: September 21, 2020.
David Holst,
Director Chief Financial Officer/CAO, Office of Oceanic and Atmospheric Research, National Oceanic and Atmospheric Administration.

[FR Doc. 2020-22427 Filed 10-8-20; 8:45 am]

BILLING CODE 3510-KA-P